DEPARTMENT OF ENERGY

Federal Energy Regulatory Commission

Combined Notice of Filings

Take notice that the Commission has received the following Natural Gas Pipeline Rate and Refund Report filings:

Filings Instituting Proceedings

Docket Numbers: RP23-447-000.

Applicants: Spire STL Pipeline LLC.

Description: § 4(d) Rate Filing: Spire STL Pipeline LLC Contact Update Filing to be effective 3/23/2023.

Filed Date: 2/21/23.

Accession Number: 20230221-5127.

Comment Date: 5 p.m. ET 3/6/23.

Docket Numbers: RP23-448-000.

Applicants: Southern Natural Gas Company, L.L.C.

Description: § 4(d) Rate Filing: SNG Fuel Retention Rates—Summer 2023 to be effective 4/1/2023.

Filed Date: 2/21/23.

Accession Number: 20230221-5135.

Comment Date: 5 p.m. ET 3/6/23.

Docket Numbers: RP23-449-000.

Applicants: Elba Express Company, L.L.C.

Description: § 4(d) Rate Filing: EEC Fuel Tracker Filing—2023 to be effective 4/1/2023.

Filed Date: 2/21/23.

Accession Number: 20230221-5179.

Comment Date: 5 p.m. ET 3/6/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-1523-011.

Applicants: Panhandle Eastern Pipe Line Company, LP.

Description: Compliance filing: Compliance Filing to Update Rate Schedule IT to be effective 3/1/2020.

Filed Date: 2/17/23.

Accession Number: 20230217-5027.

Comment Date: 5 p.m. ET 3/1/23.

Docket Numbers: RP23-92-001.

Applicants: Guardian Pipeline, L.L.C.

Description: Compliance filing: Compliance Filing to Implement RP22-725-000 Settlement Rates to be effective 4/1/2023.

Filed Date: 2/21/23.

Accession Number: 20230221-5198.

Comment Date: 5 p.m. ET 3/6/23.

Docket Numbers: RP23-434-001.

Applicants: Midwestern Gas Transmission Company.

Description: Tariff Amendment: Supplement to Housekeeping Update to be effective 3/24/2023.

Filed Date: 2/21/23.

Accession Number: 20230221-5171.

Comment Date: 5 p.m. ET 3/6/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2023.
Debbie-Anne A. Reese,
Deputy Secretary.

[FR Doc. 2023-04022 Filed 2-27-23; 8:45 am]

BILLING CODE 6717-01-P